DEPARTMENT OF THE INTERIOR

National Park Service

Agency: National Park Service, Interior.

Action: Notice of availability of the Record of Decision for the General Management Plan/Environmental Impact Statement for the Jefferson National Expansion Memorial, Missouri.

SUMMARY: Pursuant to Section 102(2)(C) of the National Environmental Policy Act of 1969, 42 U.S.C. 4332(2)(C), the National Park Service (NPS) announces the availability of a Record of Decision (ROD) for the General Management Plan/Environmental Impact Statement (GMP/EIS) for the Jefferson National Expansion Memorial (Memorial), Missouri. On November 23, the NPS Midwest Region regional director approved the ROD for the final GMP/EIS. As soon as practicable, the NPS will begin to implement the preferred alternative.

The NPS will implement the preferred alternative as described in the final GMP/EIS issued on October 23, 2009, with one alteration to the proposed boundary in East St. Louis, Illinois. Alternative 3 (Program Expansion), the preferred alternative, will revitalize the Memorial by expanded programming, facilities, and partnerships. The NPS will capitalize on multiple opportunities to expand visitor experience throughout the Memorial.

In order to gain the widest breadth of ideas for expanding interpretation, education opportunities, and visitor amenities at the Memorial, a design competition, akin to the 1947 competition, will be initiated by the NPS in close coordination with partners. Project funding will not come all at once but rather will most likely be provided by partners, donations, and other non-Federal and Federal sources. Private funding will be required in order to fully implement the winning entry of the design competition.

The NPS will use the design competition to seek opportunities to enhance existing entrances to the Memorial on the north and south, as well as to capitalize on the primary axis between the Old Courthouse and the Gateway Arch with new entrances on the west and east and by establishing a new east portal linking East St. Louis to the Gateway Arch grounds by water taxi. A new external and internal visitor transportation system will be designed as part of the competition. The ultimate configuration and use of the south end of the Memorial will be determined by the results of the design competition. Similarly, the design competition will vet ideas for the configuration and use of that portion of the Memorial in East St. Louis. While the entrants will be asked to respect the recent developments at Malcolm Martin Memorial Park, the NPS and the Metro East Park and Recreation District will entertain designs that integrate the established functions into a cohesive vision for the Memorial.

While the design solutions might include the development of above-ground structures within a portion of the designated Design Competition Overlay, the NPS will not allow the implementation of a project that would cause impairment to the Memorial, and all enhancements will be required to be located in such a manner as to preserve the integrity of the National Historic Landmark and National Register Historic District.

In addition to considering the “winning” ideas from the competition, the NPS will continue the educational and interpretive programs currently offered at the Memorial and expand opportunities for visitors to participate in more interactive experiences across the Memorial grounds. The grounds surrounding the Gateway Arch will be managed in such a way as to accommodate and promote more visitor activities and special events than are currently provided.

The NPS will actively coordinate with the city and State to enhance the pedestrian environment around the Memorial by developing a unifying streetscape along the Gateway Mall and the other streets adjacent to the Memorial, including Leonor K. Sullivan Boulevard and the riverfront levee.

The ROD includes a statement of the decision made, synopses of other alternatives considered, the basis for the decision, a description of the environmentally preferable alternative, a finding on impairment of park resources and values, a listing of measures to minimize environmental harm, and an overview of public involvement in the decision-making process.

FOR FURTHER INFORMATION CONTACT: Copies of the ROD can be obtained by contacting Superintendent Thomas Bradley, Jefferson National Expansion Memorial, 11 North 4th Street, St. Louis, Missouri 63102. You may also view the document via the Internet through the NPS Planning, Environment, and Public Comment Web site (http://parkplanning.nps.gov); simply click on the link to the Memorial.

Dated: November 23, 2009.
Ernest Quintana,
Regional Director, Midwest Region.

[FR Doc. 2010-233 Filed 1-8-10; 8:45 am]

BILLING CODE 4312-AW-P